DEPARTMENT OF TRANSPORTATION

Federal Aviation Administration

Notice of Passenger Facility Charge (PFC) Approvals and Disapprovals

AGENCY: Federal Aviation Administration (FAA), DOT.

ACTION: Monthly Notice of PFC Approvals and Disapprovals. In March 2004, there were two applications approved. This notice also includes information on two applications, approved in January 2004, inadvertently left off the January 2004 notice. Additionally, six approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Dubuque Airport Commission, Dubuque, Iowa.

Application Number: 04-06-C-00-DBQ.

Application Type: Impose and use a PFC.

PFC Level: $4.50.

Total PFC Revenue Approved in this Decision: $253,795.

Earliest Charge Effective Date: June 1, 2004.

Estimated Charge Expiration Date: November 1, 2005.

Class of Air Carriers Not Required to Collect PFC's:

On-demand air taxi/commercial operations that enplane fewer than 500 passengers per year.

Determination: Approved. Based on information contained in the public agency's application, the FAA has determined that the approved class accounts for less than 1 percent of the total annual enplanements at Dubuque Regional Airport.

Brief Description of Projects Approved for Collection and Use:

Environmental assessment and benefit cost analysis.

Rehabilitation of taxiway Charlie and lighting of Charlie and Delta taxiways.

Snow removal equipment.

Airport master plan.

Alpha southeast lighting.

Ground level loading brief.

Decision Date: January 14, 2004.

For Further Information Contact: Lorna Sandridge, Central Region Airports Division, (816) 329-2641.

Public Agency: Waterloo Airport Commission, Waterloo, Iowa.

Application Number: 03-05-C-00-ALO.

Application type: Impose and use a PFC.

PFC Level: $4.50.

Total PFC Revenue Approved in this Decision: $611,200.

Earliest Charge Effective Date: July 1, 2004.

Estimated Charge Expiration Date: April 1, 2007.

Class of Air Carriers Not Required to Collect PFC's: None.

Brief Description of Projects Approved for Collection and Use:

PFC annual audit and program administration.

Part 139 guidance signs.

Acquisition of snow removal equipment.

Perimeter fencing.

Acquisition of aircraft rescue and firefighting equipment.

Tappley meter.

Brief Description of Project Approved for Collection:

Reconstruction of terminal area ramp.

Brief Description of Withdrawn Project:

Overlay parking lot.

Determination: This project was withdrawn by the public agency on November 17, 2003.

Decision Date: January 15, 2004.

For Further Information Contact: Lorna Sandridge, Central Region Airports Division, (816) 329-2641.

Public Agency: Monterey Peninsula Airport District, Monterey, California.

Application Number: 04-10-C-00-MRY.

Application Type: Impose and use a PFC.

PFC Level: $4.50.

Total PFC Revenue Approved in this Decision: $344,701.

Earliest Charge Effective Date: June 1, 2004.

Estimated Charge Expiration Date: March 1, 2005.

Class of Air Carriers Not Required to Collect PFC's:

Unscheduled Part 135 air taxi operators.

Determination: Approved. Based on information contained in the public agency's application, the FAA has determined that the approved class accounts for less than 1 percent of the total annual enplanements at Monterey Peninsula Airport.

Brief Description of Projects Approved for Collection and Use:

Replace airfield markings.

Security access control, phase II.

Terminal modernization improvements.

Brief Description of Withdrawn Project:

Upgrade airfield lighting.

Determination: This project was withdrawn by the public agency on February 24, 2004.

Decision Date: March 5, 2004.

For Further Information Contact: Joseph R. Rodriguez, San Francisco Airports District Officer, (650) 876-2805.

Public Agency: Port of Chelan County and Port of Douglas County, Wenatchee, Washington,

Application Number: 04-05-C-00-EAT.

Application Type: Impose and use a PFC.

PFC Level: $4.50.

Total PFC Revenue Approved in this Decision: $120,671.

Earliest Charge Effective Date: June 1, 2004.

Estimated Charge Expiration Date: February 1, 2005.

Class of Air Carriers Not Required to Collect PFC's: None.

Brief Description of Projects Approved for Collection and Use: Taxiway overlay final phase. Improve terminal building (restrooms).

Decision Date: March 25, 2004.

For Further Information Contact: Suzanne Lee-Pang, Seattle Airports District OFfice, (425) 227-2654.

Amendments to PFC Approvals

Amendment No. city, state | Amendment approved date | Original approved net PFC revenue | Amended approved net PFC revenue | Original estimated charge exp. date | Amended estimated charge exp. date
*93-01-C-02-PFN, Panama City, FL | 02/20/04 | $8,238,499 | $8,238,499 | 10/01/07 | 04/01/09
*94-01-C-01-MKG, Muskegon, MI | 02/27/04 | 5,013,088 | 5,013,088 | 05/01/19 | 11/01/20
94-01-C-02-ALO, Waterloo, IA | 03/11/04 | 516,549 | 467,775 | 09/01/97 | 09/01/97
97-02-C-01-ALO, Waterloo, IA | 03/11/04 | 153,660 | 160,313 | 06/01/98 | 06/01/98
99-03-C-02-ALO, Waterloo, IA | 03/11/04 | 763,830 | 784,036 | 05/01/03 | 05/01/03
01-05-C-01-JNU, Juneau, AK | 03/31/04 | 650,000 | 540,196 | 07/01/02 | 07/01/02
(Note: The amendments denoted by an asterisk (*) include a change to the PFC level charged from $3.00 per enplaned passenger to $4.50 per enplaned passenger. For Panama City, FL and Muskegon, MI, this change is effective on May 1, 2004.)

Issued in Washington, DC on April 23, 2004.
JoAnn Horne,
Manager, Financial Analysis and Passenger Facility Charge Branch.

[FR Doc. 04-9926 Filed 4-30-04; 8:45 am]

BILLING CODE 4910-13-M